FEDERAL COMMUNICATIONS COMMISSION

[CC Docket No. 92-237; DA 01-2195]

Next Meeting of the North American Numbering Council

AGENCY: Federal Communications Commission.

ACTION: Notice.

SUMMARY: On September 20, 2001, the Commission released a public notice announcing the September 25, 2001 conference call meeting and agenda of the North American Numbering Council (NANC). The conference bridge number for domestic participants is 1-888-869-0374 (toll free). The call in number for international participants is (904) 779-4767 (caller pays). Due to limited port space, NANC members and Commission staff will have first priority on the call. Members of the public may join the call as remaining port space permits or may attend in person at the Federal Communications Commission, Portals II, 445 Twelfth Street, SW., Room 8-C245, Washington, DC 20554. The intended effect of this action is to make the public aware of the NANC's conference call meeting and agenda scheduled for September 25, 2001. This notice of the September 25, 2001, NANC conference call meeting is being published in the Federal Register less than 15 calendar days prior to the meeting due to the necessity of canceling the September 11-12, 2001 NANC meeting and NANC's need to discuss a time sensitive issue before the next scheduled meeting. This statement complies with the General Services Administration Management regulations implementing the Federal Advisory Committee Act. See 41 CFR 101-6.1015(b)(2).

FOR FURTHER INFORMATION CONTACT: Deborah Blue, Special Assistant to the Designated Federal Officer (DFO) at (202) 418-2320 or dblue@fcc.gov. The address is: Network Services Division, Common Carrier Bureau, Federal Communications Commission, The Portals II, 445 12th Street, SW., Suite 6A207, Washington, DC 20554. The fax number is: (202) 418-2345. The TTY number is: (202) 418-0484.

SUPPLEMENTARY INFORMATION: This meeting is open to members of the general public. The FCC will attempt to accommodate as many participants as possible. The public may submit written statements to the NANC, which must be received one business day before the meeting. In addition, oral statements at the meeting by parties or entities not represented on the NANC will be permitted to the extent time permits. Requests to make an oral statement must be received one business day before the meeting. Requests to make an oral statement or provide written comments to the NANC should be sent to Deborah Blue at the address under FOR FURTHER INFORMATION CONTACT, stated above.

Proposed Agenda

1. Discussion and development of NANC recommendation to the Federal Communications Commission regarding the NANPA Contract Technical Requirements.

Dated: September 20, 2001.
Federal Communications Commission.
Diane Griffin Harmon,
Acting Chief, Network Services Division, Common Carrier Bureau.

[FR Doc. 01-23974 Filed 9-21-01; 8:45 am]

BILLING CODE 6712-01-P